LABOR DEPARTMENT

Occupational Safety and Health Administration

29 CFR Part 1926

Safety and Health Regulations for Construction

CFR Correction

In Title 29 of the Code of Federal Regulations, Part 1926, revised as of July 1, 2012, on page 225, in § 1926.152, paragraph (c)(16) is added to read as follows:

§ 1926.251 Rigging equipment for material handling.

* * * * *

(c) * * *

(16) Wire rope slings shall have permanently affixed, legible identification markings stating size, rated capacity for the type(s) of hitch(es) used and the angle upon which it is based, and the number of legs if more than one.

* * * * *

[FR Doc. 2013-3755 Filed 2-14-13; 8:45 am]

BILLING CODE 1505-01-D